DEPARTMENT OF JUSTICE

Antitrust Division

Notice Pursuant to the National Cooperative Research and Production Act of 1993—Petroleum Environmental Research Forum (“PERF”)

Notice is hereby given that, on February 4, 2000, pursuant to Section 6(a) of the National Cooperative Research and Production Act of 1993, 15 U.S.C. 4301 et seq. (the “Act”), Petroleum Environmental Research Forum (“PERF”) Project No. 98-04, titled, “Understanding, Predicting and Treating Water Soluble Organic Contaminants in Produced Water Discharges”, has filed written notifications simultaneously with the Attorney General and the Federal Trade Commission disclosing (1) The identities of the parties and (2) the nature and objectives of the venture. The notifications were filed for the purpose of invoking the Act's provisions limiting the recovery of antitrust plaintiffs to actual damages under specified circumstances. Pursuant to Section 6(b) of the Act, the identities of the parties are Chevron Research and Technology Company, Richmond, CA; Den Norske Stats Oljese Skap a.s., Trondheim, Norway; Phillips Petroleum Co., Bartlesville, OK; and Shell International Exploration and Production, Inc., Houston, TX. The nature and objectives of the venture are to compile research projects directed to develop, apply and transfer technology and information which will assist in understanding, predicting and treating water soluble organic contaminants in produced water discharges.

Constance K. Robinson,
Director of Operations, Antitrust Division.

[FR Doc. 00-15599 Filed 6-20-00; 8:45 am]

BILLING CODE 4410-11-M